DEPARTMENT OF DEFENSE

Department of the Navy

Notice of Intent To Prepare an Environmental Impact Statement for Patuxent River Complex Testing and Training and To Announce Public Scoping Meetings

AGENCY: Department of the Navy, DoD.

ACTION: Notice.

SUMMARY: Pursuant to section 102(2)(c) of the National Environmental Policy Act (NEPA) of 1969, as implemented by the Council on Environmental Quality, the Department of the Navy (Navy) announces its intent to prepare an Environmental Impact Statement (EIS) for Research, Development, Test and Evaluation (hereinafter referred to as “testing”) and training activities within the Patuxent River Complex (PRC), Naval Air Station Patuxent River, MD. The proposed action is to continue conducting military testing and training activities within the PRC to meet current and projected military readiness requirements. The proposed action includes testing and training activities analyzed in the Naval Air Systems Command, Naval Air Warfare Center Aircraft Division (NAWCAD) December 1998 PRC Final EIS and subsequent Environmental Assessments, plus adjustments to current testing and training activities required to support projected Navy military readiness requirements into the foreseeable future.

DATES: The 45-day public scoping comment period begins February 15, 2019 and ends April 1, 2019. Public scoping meetings will be held on March 4, 5, 6 and 7, 2019. All public comments are due by April 1, 2019.

ADDRESSES: The meetings will be held at the following locations:

1. March 4, 2019, 4:00 p.m. to 7:00 p.m., Light of Christ Anglican Church, 9500 Northumberland Highway, Heathsville, VA 22473-0609.

2. March 5, 2019, 4:00 p.m. to 7:00 p.m., Southern Maryland Higher Education Center, Building 1 Multi-Purpose Room, 44219 Airport Road, California, MD 20619-2010.

3. March 6, 2019, 4:00 p.m. to 7:00 p.m., University of Maryland, Eastern Shore, Richard A. Henson Center Ballroom, 30690 University Blvd. S, Princess Anne, MD 21853-1295.

4. March 7, 2019, 4:00 p.m. to 7:00 p.m., St. Paul's United Methodist Church, Parish Hall, 205 Maryland Avenue, Cambridge, MD 21613-1924.

The Navy invites public comments on the scope of the analysis, including potential environmental issues and viable alternatives to be considered during the development of the Draft EIS. Comments may be provided at the public scoping meetings, by mail, and through the EIS website at: http://www.prceis.com. Comments must be postmarked or received online by April 1, 2019. Mailed comments must be sent to the address in the FOR FURTHER INFORMATION CONTACT section for consideration in the Draft EIS preparation.

The scoping meetings will consist of informal, open house sessions with informational poster stations staffed by Navy representatives. Meeting details will be announced in local area newspapers. Additional information on the public scoping meetings will be available on the EIS website at: http://www.prceis.com.

FOR FURTHER INFORMATION CONTACT: Naval Air Warfare Center Aircraft Division Range Sustainability Office, Atlantic Test Range, Building 2118, 23013 Cedar Point Road, Patuxent River, MD 20670-1183, Attn: Ms. Crystal Ridgell, EIS Project Manager, 301-342-9902 or project website: http://www.prceis.com.

SUPPLEMENTARY INFORMATION: NAWCAD is the Navy's action proponent for activities in the PRC, and is based at Naval Air Station (NAS) Patuxent River, Maryland approximately 60 miles southeast of Washington, DC. The PRC is a Major Range and Test Facility Base with the mission of testing Navy and Marine Corps aircraft, aircraft systems, and inert weapons in the military restricted and surrounding airspace that overlies the middle Chesapeake Bay water range, the southern end of the Potomac and Patuxent Rivers, as well as lands in Maryland, Virginia, and Delaware. The PRC is critical to supporting NAWCAD's mission to deliver high quality, affordable aircraft products and services in support of Navy and Marine Corps military readiness. Navy pilots also conduct training flights within the PRC.

The proposed action is to continue conducting military testing and training activities within the PRC to meet current and projected military readiness requirements. The proposed action includes testing and training activities analyzed in the 1998 PRC Final EIS and subsequent environmental assessments, as well as adjustments to current testing and training activities to support projected Navy readiness requirements into the foreseeable future.

The purpose of the proposed action is to provide Sailors and Marines with equipment and technology that operates effectively and safely to support current and projected future military readiness requirements.

The need for the proposed action is to maintain military readiness of naval forces capable of winning wars, deterring aggression, and maintaining freedom of the seas, now and into the future, consistent with Title 10, Section 5062, of the United States Code.

The Navy will evaluate the potential environmental impacts from a No Action Alternative and action alternatives, and will analyze potential impacts on environmental resources from activities included in the alternatives. These environmental resources include, but are not limited to: Biological resources (e.g., aquatic and terrestrial protected species); water resources and sediments; air quality; airborne noise; cultural resources; socioeconomics; land use; public health and safety; hazardous material and waste; and environmental justice.

The scoping process is helpful in identifying public concerns and local issues to be considered during the development of the Draft EIS. Federal, state, and local agencies; federally recognized tribes; and interested persons are encouraged to provide substantive comments to the Navy on environmental resources and issue areas of concern that the commenter believes the Navy should consider. All comments, provided orally or in writing at the scoping meetings, submitted via the EIS website, or mailed, will be taken into consideration during the development of the Draft EIS.

Dated: February 15, 2019.
M.S. Werner,
Commander, Judge Advocate General's Corps, U.S. Navy, Federal Register Liaison Officer.

[FR Doc. 2019-02325 Filed 2-14-19; 8:45 am]

BILLING CODE 3810-FF-P